DEPARTMENT OF DEFENSE

Office of the Secretary

Extension of Autism Services Demonstration Project for TRICARE Beneficiaries Under the Extended Care Health Option

AGENCY: Department of Defense.

ACTION: Notice of demonstration.

SUMMARY: This notice provides a 1-year extension of the Department of Defense (the Department) Enhanced Access to Autism Services Demonstration Project (Autism Demonstration) under the Extended Care Health Option (ECHO) for beneficiaries diagnosed with an Autism Spectrum Disorder (ASD). Under the demonstration, the Department implemented a provider model that allows reimbursement for Applied Behavior Analysis rendered by providers who are not otherwise eligible for reimbursement.

DATES: The demonstration will continue through March 14, 2015.

ADDRESSES: Defense Health Agency, Health Plan Operations, 7700 Arlington Boulevard, Suite 5101, Falls Church, Virginia 22042.

FOR FURTHER INFORMATION CONTACT: For questions pertaining to this demonstration project, please contact Mr. Richard Hart at (703) 681-0047.

SUPPLEMENTARY INFORMATION:

On December 4, 2007, the Department of Defense published a notice in the Federal Register (FR) (72 FR 68130-68132) of a TRICARE demonstration to increase access to ABA services. The purpose of the demonstration is to allow the Department to determine whether such a provider model increases access to services, the services are reaching those most likely to benefit from them, the quality of the services rendered meets the standard of care currently accepted by the community of providers, and whether State requirements for licensure or certification of providers of ABA services, where such exists, are being met. The effective date was 60 days following publication of the notice, and the demonstration was implemented on March 15, 2008, for a period of 2 years.

Recognizing that the subject of ASDs is complex, in particular, with respect to the number of individuals diagnosed with ASD, the treatment of ASD that generally includes several years of behavior modification through educational services, and the ability of the provider community to increase the number of qualified providers, the Department published a notice in the FR (75 FR 8927-8928) on February 26, 2010, that extended the Demonstration through March 14, 2012, and again on December 27, 2011 (76 FR 80903) through March 14, 2014.

Based on the favorable subjective response from parents of TRICARE beneficiaries who participated in the ABA tiered delivery model under the ECHO Autism Demonstration and responded to TRICARE Management Activity satisfaction surveys, the Department published a Proposed Rule on December 29, 2011 (76 FR 81897-81899) that would add coverage of the ABA tiered delivery model under ECHO for ASD as a non-medical “Other service,” as that term is used in Title 10, U.S.C., Section 1079(e). However, the publication of a final rule and transition of the Autism Demonstration to a permanent benefit under ECHO was placed on-hold due to pending resolution of the ongoing litigation and separate legislative efforts addressing coverage of autism-related services under TRICARE, and the interim coverage of ABA as a TRICARE Basic Program benefit.

Under the added authority of the 1-year ABA Pilot Program established by section 705 of NDAA for Fiscal Year 2013 (the “ABA Pilot”), a new interim TRICARE ABA reinforcement benefit for Non-Active Duty Family Members (NADFMs) was implemented on July 25, 2013, as a separate interim benefit from the coverage of medical benefits currently provided under the TRICARE Basic Program to both ADFMs and NADFMs with ASD, and separate from the Autism Demonstration services available by law only to ADFMs enrolled in their Service's Exceptional Family Member program and otherwise eligible for ECHO.

In accordance with Congressional direction concerning the purposes of the ABA Pilot, TRICARE will include an assessment of the feasibility and advisability of establishing a beneficiary cost share for the treatment of ASD. TRICARE will submit an interim Report to Congress (RTC) in December 2013 and a final RTC after the July 2014 ABA Pilot completion date, to include: an evaluation of the beneficiary cost shares; a comparison of providing various ABA services under the TRICARE Basic Program, ECHO (including the Autism Demonstration for ADFMs) and the separate ABA Pilot (for NADFMs); recommended changes in legislation; and additional information as appropriate. The Department has determined that continuation of the demonstration for an additional 1 year is both in the best interest of TRICARE beneficiaries diagnosed with an ASD, and necessary to fully evaluate the effectiveness of the delivery model employed by the demonstration. Continuation of the Autism Demonstration will also provide additional information needed to make a formal decision regarding the use of that delivery model in the long-term. The demonstration continues to be authorized by Title 10, United States Code, Section 1092.

Dated: December 19, 2013.
Aaron Siegel,
Alternate OSD Federal Register Liaison Officer, Department of Defense.

[FR Doc. 2013-30670 Filed 12-24-13; 8:45 am]

BILLING CODE 5001-06-P